ENVIRONMENTAL PROTECTION AGENCY

[ER-FRL-9026-8]

Environmental Impact Statements; Notice of Availability

Responsible Agency: Office of Federal Activities, General Information (202) 564-7146 or http://www2.epa.gov/nepa.

Weekly receipt of Environmental Impact Statements (EISs)

Filed 04/25/2016 Through 04/29/2016.

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160091, Final, FERC, ID,Bear River Narrows Hydroelectric Project, Review Period Ends: 06/06/2016, Contact: Kenneth Hogan 202-502-8434.

EIS No. 20160092, Draft, USFS, WA,Forestwide Site Specific Invasive Plant Management, Comment Period Ends: 06/20/2016, Contact: Brigitte Ranne 509-682-4941.

EIS No. 20160093, Final, USFS, OR,Gap Landscape Restoration Project, Review Period Ends: 06/06/2016, Contact: Marcelle Anderson 541-416-6463.

EIS No. 20160094, Draft, USFWS, PRO,Programmatic—Eagle Rule Revision, Comment Period Ends: 07/05/2016, Contact: Eliza Savage 703-358-2329.

EIS No. 20160095, Draft, DOC, PRO,Programmatic—East Region of the Nationwide Public Safety Broadband Network, Comment Period Ends: 07/06/2016, Contact: Amanda Pereira 571-665-6141.

EIS No. 20160096, Draft, USFWS, CA,Lower Klamath, Clear Lake, Tule Lake, Upper Klamath, and Bear Valley National Wildlife Refuges Draft Comprehensive Conservation Plan, Comment Period Ends: 06/20/2016, Contact: Mark Pelz 916-414-6464.

EIS No. 20160097, Draft, USFS, CO,Rico-West Dolores Roads and Trails Travel Management Project, Comment Period Ends: 06/20/2016, Contact: Deborah Kill 970-882-6822.

Amended Notices

EIS No. 20150336, Draft, USACE, AK,Donlin Gold Project, Comment Period Ends: 05/31/2016, Contact: Keith Gordon 907-753-5710. Revision to FR Notice Published 11/27/2015; Extending Comment Period from 04/30/2016 to 05/31/2016.

Dated: May 3, 2016.
Karin Leff,
Acting Director, NEPA Compliance Division, Office of Federal Activities.

[FR Doc. 2016-10719 Filed 5-5-16; 8:45 am]

BILLING CODE 6560-50-P